SMALL BUSINESS ADMINISTRATION

[Declaration of Disaster #3532]

State of Minnesota

Renville County and the contiguous Counties of Brown, Chippewa, Kandiyohi, McLeod, Meeker, Nicollet, Redwood, Sibley, and Yellow Medicine in the State of Minnesota constitute a disaster area due to damages caused by multiple tornadoes in the City of Buffalo Lake that occurred on June 22 through 24, 2003. Applications for loans for physical damage may be filed until the close of business on September 23, 2003, and for economic injury until the close of business on April 26, 2004, at the address listed below or other locally announced locations: U.S. Small Business Administration, Disaster Area 2 Office, One Baltimore Place, Suite 300, Atlanta, GA 30308.

The interest rates are:

| Percent
For Physical Damage:
Homeowners With Credit Available Elsewhere | 5.625
Homeowners Without Credit Available Elsewhere | 2.812
Businesses With Credit Available Elsewhere | 5.906
Businesses and Non-profit Organizations Without Credit Available Elsewhere | 2.953
Others (Including Non-profit Organizations) With Credit Available Elsewhere | 5.500
For Economic Injury: Businesses and Small Agricultural Cooperatives Without Credit Available Elsewhere | 2.953

The number assigned to this disaster for physical damage is 353212 and for economic injury is 9W5300.

(Catalog of Federal Domestic Assistance Program Nos. 59002 and 59008)
Dated: July 25, 2003.
Hector V. Barreto,
Administrator.

[FR Doc. 03-19639 Filed 7-31-03; 8:45 am]

BILLING CODE 8025-01-P